DEPARTMENT OF TRANSPORTATION

Federal Aviation Administration

14 CFR Part 39

[Docket No. 2001-SW-61-AD; Amendment 39-13303; AD 2003-19-01]

RIN 2120-AA64

Airworthiness Directives; Eurocopter France Model AS 365 N3 and EC 155B Helicopters

AGENCY: Federal Aviation Administration, DOT.

ACTION: Final rule.

SUMMARY: This amendment adopts a new airworthiness directive (AD), applicable to Eurocopter France (Eurocopter) Model AS 365 N3 and EC 155B helicopters, that requires replacing each Fenestron pitch change control rod (control rod) with an improved reinforced steel airworthy control rod. This amendment is prompted by a failure of a control rod on a prototype helicopter and by the manufacturer making available a newly-designed reinforced steel control rod. The actions specified by this AD are intended to prevent failure of the control rod, loss of control of the tail rotor, and subsequent loss of control of the helicopter.

DATES: Effective October 23, 2003.

FOR FURTHER INFORMATION CONTACT: Gary Roach, Aviation Safety Engineer, FAA, Rotorcraft Directorate, Regulations and Guidance Group, Fort Worth, Texas 76193-0111, telephone (817) 222-5130, fax (817) 222-5961.

SUPPLEMENTARY INFORMATION: A proposal to amend part 39 of the Federal Aviation Regulations (14 CFR part 39) to include an AD that is applicable to Eurocopter Model AS 365 N3 and EC 155B helicopters was published in the Federal Register on October 2, 2002 (67 FR 61843). That action proposed to require replacing the affected control rod every 300 hours time-in-service (TIS). However, before the final rule was published, the manufacturer made available a redesigned control rod to replace the affected control rod and issued new service information. Therefore, since we decided to require replacing the affected control rod with the redesigned control rod, we reopened the comment period by publishing a supplemental notice of proposed rulemaking on April 1, 2003 (68 FR 15687). That action proposed to require removing the control rod, P/N 365A33-6161-21, and replacing it with a reinforced steel control rod, P/N 365A33-6214-20.

The Direction Generale De L'Aviation Civile (DGAC), the airworthiness authority for France, notified the FAA that an unsafe condition may exist on Eurocopter Model AS 365 N and Model EC 155B helicopters. The DGAC advises that a control rod failure occurred on a prototype aircraft and mandates removing control rod, P/N 365A33-6161-21, at certain times depending on the number of helicopter flight hours, and replacing it with a reinforced steel control rod, P/N 365A33-6214-20.

Eurocopter has issued Alert Telex No. 04A005 for Model EC 155B helicopters, and Alert Telex No. 01.00.55 for Model AS 365 N3 helicopters, both dated July 4, 2002. The alert telexes specify removing the control rod, P/N 365A33-6161-21, and replacing it with a reinforced steel control rod, P/N 365A33-6214-20. The DGAC classified these alert telexes as mandatory and issued AD No. 2002-472-057(A) for Model AS 365 N3 helicopters, and AD No. 2002-473-006(A) for Model EC 155B helicopters to ensure the continued airworthiness of these helicopters in France. Both AD's are dated September 18, 2002.

Interested persons have been afforded an opportunity to participate in the making of this amendment. No comments were received on the proposal or the FAA's determination of the cost to the public. The FAA has determined that air safety and the public interest require the adoption of the rule as proposed.

On July 10, 2002, the FAA issued a new version of 14 CFR part 39 (67 FR 47997, July 22, 2002), which governs the FAA's AD system. The regulation now includes material that relates to altered products, special flight permits, and alternative methods of compliance. However, for clarity and consistency in this final rule, we have retained the language of the NPRM regarding that material.

The FAA estimates that 3 helicopters of U.S. registry will be affected by this AD, that it will take approximately 2 work hours per helicopter to remove and replace the control rod, and that the average labor rate is $60 per work hour. Required parts will cost approximately $2,677. Based on these figures, the total cost impact of the AD on U.S. operators is estimated to be $8,391.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-19-01 Eurocopter France: Amendment 39-13303. Docket 2001-SW-61-AD.

Applicability: Model AS 365 N3 helicopters with MOD 0764B39 (Quiet Fenestron) and Model EC 155B helicopters with tail rotor pitch change control rod (control rod), part number (P/N) 365A33-6161-21, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent failure of the control rod, loss of control of the tail rotor, and subsequent loss of control of the helicopter, accomplish the following:

(a) Remove the control rod, P/N 365A33-6161-21, and replace it with a reinforced steel control rod, P/N 365A33-6214-20, in accordance with the following table:

Remove the control rod: | For control rods with:
Before further flight | 700 or more hours TIS.
Within 20 hours TIS | 500 or more hours TIS but less than 700 hours TIS.
Within 30 hours TIS | More than 270 hours TIS and less than 500 hours TIS.

Note 2: Eurocopter Alert Telex No. 04A005, for Model EC 155B helicopters, and Alert Telex No. 01.00.55, for Model AS 365 N3 helicopters, both dated July 4, 2002, pertain to the subject of this AD.

(b) An alternative method of compliance or adjustment of the compliance time that provides an acceptable level of safety may be used if approved by the Manager, Safety Management Group, Rotorcraft Directorate, FAA. Operators shall submit their requests through an FAA Principal Maintenance Inspector, who may concur or comment and then send it to the Manager, Safety Management Group.

Note 3: Information concerning the existence of approved alternative methods of compliance with this AD, if any, may be obtained from the Safety Management Group.

(c) Special flight permits may be issued in accordance with 14 CFR 21.197 and 21.199 to operate the helicopter to a location where the requirements of this AD can be accomplished.

(d) This amendment becomes effective on October 23, 2003.

Note 4: The subject of this AD is addressed in Direction Generale De L'Aviation Civile (France) AD No. 2002-472-057(A) for Model AS 365 N3 helicopters, and AD No. 2002-473-006(A) for Model EC 155B helicopters. Both AD's are dated September 18, 2002.

Issued in Fort Worth, Texas, on September 9, 2003.
Scott A. Horn,
Acting Manager, Rotorcraft Directorate, Aircraft Certification Service.

[FR Doc. 03-23830 Filed 9-17-03; 8:45 am]

BILLING CODE 4910-13-P